DEPARTMENT OF ENERGY

Federal Energy Regulatory Commission

[Docket No. RD23-2-000]

North American Electric Reliability Corporation; Notice of Joint Technical Conference

Take notice that Federal Energy Regulatory Commission and North American Electric Reliability Corporation (NERC) staff will convene a technical conference in the above-referenced proceeding on August 10, 2023. The conference will be held in-person at NERC's headquarters at 3353 Peachtree Road NE, Suite 600, North Tower, Atlanta, GA 30326. Information on travelling to NERC's Atlanta office is available here: https://nercstg.nerc.com/AboutNERC/Resource%20Documents/2021%20Atlanta%20Travel%20Guide.pdf.

The purpose of this conference is to discuss physical security of the Bulk-Power System, including the adequacy of existing physical security controls, challenges, and solutions. The conference will be open for the public to attend, and there is no fee for attendance. Supplemental notice(s) will be issued prior to the technical conference with further details regarding the agenda and organization. Information on this technical conference will also be posted on the Calendar of Events on the Commission's website, www.ferc.gov, prior to the event.

Commission conferences are accessible under section 508 of the Rehabilitation Act of 1973. For accessibility accommodations, please send an email to accessibility@ferc.gov, call toll-free (866) 208-3372 (voice) or (202) 208-8659 (TTY), or send a fax to (202) 208-2106 with the required accommodations. The conference will also be transcribed. Transcripts will be available for a fee from Ace Reporting, (202) 347-3700.

For more information about this technical conference, please contact Terrance Clingan at Terrance.Clingan@ferc.gov or (202) 502-8823. For information related to logistics, please contact Lonnie Ratliff at Lonnie.Ratliff@nerc.net or Sarah McKinley at Sarah.McKinley@ferc.gov or (202) 502-8004.

Dated: May 30, 2023.
Kimberly D. Bose,
Secretary.

[FR Doc. 2023-11937 Filed 6-5-23; 8:45 am]

BILLING CODE 6717-01-P